DEPARTMENT OF JUSTICE

Federal Bureau of Investigation

[OMB Number 1110-0021]

Agency Information Collection Activities; Proposed eCollection eComments; Requested; Extension Without Change, of a Previously Approved Collection; FBI National Academy: End-of-Session Student Course Questionnaire; FBI National Academy: General Remarks Questionnaire

AGENCY: Federal Bureau of Investigation, Department of Justice.

ACTION: 60-day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until August 22, 2017.

FOR FURTHER INFORMATION CONTACT:

If you have additional comments especially on the estimated public burden or associated response time, suggestions, or need a copy of the proposed information collection instrument with instructions or additional information, please contact Keith Shirley, Unit Chief, Evaluation and Assessment Unit, Training Division, FBI Academy, Federal Bureau of Investigation, Quantico, Virginia 22135.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Extension of a currently approved collection.

2. The Title of the Form/Collection: FBI National Academy Post—End-of-Session Student Course Questionnaire—FBI National Academy: General Remarks Questionnaire

3. The agency form number, if any, and the applicable component of the Department sponsoring the collection: The form is unnumbered. The applicable component within the Training Division, Department of Justice (DOJ), Federal Bureau of Investigation (FBI)

4. Affected public who will be asked or required to respond, as well as a brief abstract: FBI National Academy students that represent state and local police and sheriffs' departments, military police organizations, and federal law enforcement agencies from the United States and over 150 foreign nations.

This collection is requested by the FBI National Academy. These questionnaires have been designed to collect feedback from National Academy graduates and their supervisors to determine the type of impact the National Academy program had on their organization. The results are used to help determine if the National Academy program is functioning as intended and meeting its goals and objectives. We will utilize the students' comments to improve the current curriculum.

5. An estimate of the total number of respondents and the amount of time estimated for an average respondent to respond: Approximately 1,000 FBI National Academy graduates per year will respond to two types of questionnaires. (1) FBI National Academy; End-of-Session Student Course Questionnaire and (2) FBI National Academy: General Remarks Questionnaire. It is predicted we will receive a 75% response rate for both questionnaires. Each student will respond to seven Student Course questionnaires-one for each course they completed. The average time for reading the questionnaire directions is estimated to be two (2) minutes; the time to complete each questionnaire is estimated to be approximately 13 minutes. Thus the total time to complete one Student Course questionnaire 15 minutes and 105 minutes for all seven questionnaires.

For the FBI National Academy: General Remarks Questionnaire, students will respond to one questionnaire. The average time for reading the questionnaire directions is estimated to be two (2) minutes; the time to complete the questionnaire is estimated to be approximately 10 minutes. Thus the total time to complete the General Remarks Questionnaire is 12 minutes.

6. An estimate of the total public burden (in hours) associated with the collection: The estimated public burden associated with this collection is 1462.5 hours given that approximately 75% of those surveyed (or 750) will respond.

If additional information is required contact: Melody Braswell, Department Clearance Officer, United States Department of Justice, Justice Management Division, Policy and Planning Staff, Two Constitution Square, 145 N Street NE., 3E.405A, Washington, DC 20530.

Dated: June 20, 2017.
Melody Braswell,
Department Clearance Officer for PRA, U.S. Department of Justice.

[FR Doc. 2017-13177 Filed 6-22-17; 8:45 am]

BILLING CODE 4410-02-P